DEPARTMENT OF COMMERCE

National Oceanic and Atmospheric Administration

[RTID 0648-XE800]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow a federally permitted fishing vessel to fish outside fishery regulations in support of exempted fishing activities proposed by the Gulf of Maine Research Institute (GMRI). Regulations under the Magnuson-Stevens Fishery Conservation and Management Act require publication of this notification to provide interested parties the opportunity to comment on applications for proposed EFPs.

DATES: Comments must be received on or before April 21, 2025.

ADDRESSES: You may submit written comments by email at nmfs.gar.efp@noaa.gov. Include in the subject line “Electronic jigging machines in the Gulf of Maine Groundfish Closure Areas.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Elise Scholl, Fishery Management Specialist, elise.scholl@noaa.gov, (978) 281-9189.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.83(a)(1) | Restriction on retention of pollock under the minimum fish size (TL) of 19 inches (48.3 cm) | To retain sublegal size pollock for research sampling.
50 CFR 648.81(a)(1) | No fishing vessel may enter, fish, or be in, and no fishing gear capable of catching NE multispecies maybe on board a vessel in the Cashes Ledge or Western Gulf of Maine Closure Areas | To allow commercial fishing activity in the Western Gulf of Maine Closure Area and the Cashes Ledge Closure Area (except the Ammen Rock Habitat Management Area), to collect samples for research.

Table 2—Project Summary
Project title | Using electronic jigging machines as a novel, ultra-low impact, gear type to collect catch data and biological samples in the Gulf of Maine (GOM) Groundfish Closure Areas.
Project start | 05/01/2025.
Project end | 04/30/2026.
Project objectives | Provide critical data on the distribution, size and sex composition, feeding habits, and physical characteristics of pollock in data-limited areas in the GOM.
Project location | Statistical areas 513, 514, and 515.
Number of vessels | 1.
Number of trips | Up to 30.
Trip duration (days) | 2.
Total number of days | Up to 60.
Gear type(s) | Hook, Rod and Reel.
Number of tows or sets | 4 per trip.
Duration of tows or sets | 3 hours.

Project Narrative

GMRI is requesting an EFP in support of a pilot study aimed at collecting data on the distribution, size and sex composition, feeding habits, and physical characteristics of pollock in data limited areas within the GOM. The project aims to collect data through haul-level catch and effort data collection, biological sampling, and discard monitoring via electronic monitoring (EM). The participating vessel is authorized to use EM through their Sector Operations Plans.

The project aims to fulfill specific research needs of GMRI's pollock study and address research priorities identified in the 2022 pollock stock assessment, including research on the geographic distribution by size. The exemptions would allow sampling inside the Western GOM Closure Area and the Cashes Ledge Closure Area in order to evaluate pollock size distributions and reproductive dynamics inside and outside the closure areas. The exemption to the minimum pollock size would allow the vessel to retain sub-legal sized pollock to collect catch data and biological samples.

Sampling would be conducted with hook jigging gear, including auto-jigs and rod and reel. The applicant claims that the auto-jigging machines are low-impact due to this method being associated with minimal bycatch and discards exhibiting relatively high survivability. There would be up to 4 auto-jigs, and 2 rod and reels deployed at a time, with a maximum of 32 hooks total fishing at one time. The hook sizes would vary from size 8/0 to 14/0.

The applicant estimates there would be 28 trips inside the closure areas and 20 trips outside the closure areas. GMRI researchers are seeking at least 50 tagged pollock per area per season, so that samples of pollock on any given trip do not all come from the same school. Fishing effort may occur both inside and outside the closure areas on the same trip. GMRI would not compensate the vessel for collecting data and samples. Rather, the sampling design would allow the vessel to harvest groundfish from an area that it is not otherwise authorized to fish in, offering an incentive to participate in the study. This incentive would be used to offset costs associated with the sampling regime requested by GMRI researchers.

To help expand the temporal and spatial scope of the samples, every 10th pollock would be separated from the commercial catch, and tagged with a color-coded zip tie differentiating its harvest location. Sub-legal sized pollock selected for biological sampling would be measured according to the Vessel Electronic Monitoring Plan (VMP) prior to storing in slush ice, while sub-legal sized pollock not selected for biological sampling would be live discarded according to the VMP. Sub-legal sized fish of all other species would also be live discarded according to the VMP. GMRI scientists would conduct dockside sampling of all tagged fish including length, weight, sex, and stomach contents, as well as taking photo documentation of the physical characteristics of each tagged pollock. Haul level catch, discard, and fishing effort data collection would be completed using the Northeast Fisheries Science Center Fisheries Logbook Data Recording Software.

The project would also provide 50-100 cod fin clips from inside the GOM Closure Areas to expand the geographic range of an ongoing cod DNA study being conducted by the University of New Hampshire. Samples would consist of fingernail-size fin clips from the top of the tail, presumably posing no threat to the survivability of the released cod. The project seeks to sample cod catch, including undersized cod.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: April 1, 2025.
Karen H. Abrams,
Acting Director, Office of Sustainable Fisheries, National Marine Fisheries Service.

[FR Doc. 2025-05844 Filed 4-3-25; 8:45 am]

BILLING CODE 3510-22-P